NUCLEAR REGULATORY COMMISSION

[NRC-2008-0070]

Status of the Office of Nuclear Reactor Regulation's Implementation of Electronic Operating Reactor Correspondence

The U.S. Nuclear Regulatory Commission (NRC) is issuing this Federal Register Notice to inform the public that publicly available correspondence originating from the Office of Nuclear Reactor Regulation, Division of Operating Reactor Licensing (DORL) will be transmitted to addressees and subscribers by a computer-based e-mail distribution system. This change does not affect the availability of official agency records in the NRC's Agencywide Documents Access and Management System (ADAMS), which may be accessed through NRC's Web page http://www.nrc.gov.

In order to evaluate the feasibility of electronic distribution, the DORL staff engaged in a pilot program with Exelon Generation Company, LLC (West). The pilot program began July 1, 2007, and ended September 30, 2007. A Federal Register Notice announcing the pilot program was issued on June 28, 2007, (72 FR 35520) and another Federal Register Notice was issued on February 7, 2008, (73 FR 7328) describing the results of the pilot program.

During the pilot program, the method used for distribution was e-mail. The e-mail contained an electronic link to ADAMS providing direct access to the correspondence. In addition, addressees received an Adobe Acrobat ™ portable document format (PDF) version of the correspondence. One issue identified during the pilot program involved the use of e-mails with a direct link into ADAMS. This approach has inherent limitations. It may take up to 5 business days for a document to become publicly available in ADAMS. Unless action is taken to make the document publicly available sooner or action taken to delay sending the e-mail until the document becomes publicly available, the direct link resulted in the document not being available when the e-mail was received.

Additional steps were taken to obtain stakeholder feedback. In the initial Federal Register Notice (72 FR 35520) announcing the pilot program and in a letter dated October 11, 2007, (ADAMS Accession No. ML072820307) the NRC staff requested comments on this initiative. The NRC staff also sent an e-mail on October 24, 2007, (ADAMS Accession No. ML080160089) to those who participated in the pilot program to get their feedback. Comments received (ADAMS Accession No. ML080170254) were overwhelmingly supportive of electronic distribution, generally because of the reduced need for copies and reduced handling costs. A few respondents were concerned with e-mail box overloads and internet service provider file size limits. These concerns have been addressed through the use of administrative controls to control the size of distributed files.

The DORL staff incorporated this feedback in developing the Operating Reactor Correspondence Administration program implementing distribution of DORL generated correspondence through a computer-based e-mail distribution system. The DORL staff now provides the addressee and subscribers with an Adobe Acrobat ™ PDF file of the correspondence. The addressee and subscribers lists receive distributed correspondence documents at the same time. Distribution of correspondence containing safeguards, proprietary or security-related information, or other information that is withheld from public disclosure will not be affected by this initiative.

This initiative was implemented on September 30, 2008. Individuals may subscribe to receive DORL-generated operating reactor correspondence by entering the following URL into their Web browser address bar:

http://www.nrc.gov/public-involve/listserver/plants-by-region.html.

Or through NRC's Web site, http://www.nrc.gov as described below:

1. Go to the NRC's public Web site (http://www.nrc.gov).

2. Click on the “Public Meetings & Involvement” tab.

3. On this page, under the heading “Information and Meeting Schedules to Help You Participate,” click on “Subscribe to E-mail Notices.”

4. On this page, click on the phrase, “Operating Reactor Correspondence,” which will take you to the subscription page.

The Operating Reactor Correspondence page also provides the option to subscribe to Federal Register Notices for the operating reactors.

Dated at Rockville, Maryland, this 22nd day of April 2009.
For The Nuclear Regulatory Commission.
Cameron Goodwin,
Plant Licensing Branch 3-2, Division of Operating Reactor Licensing, Office of Nuclear Reactor Regulation.

[FR Doc. E9-9768 Filed 4-28-09; 8:45 am]

BILLING CODE 7590-01-P